DEPARTMENT OF AGRICULTURE

Natural Resources Conservation Service

Notice of Proposed Changes to Section IV of the Field Office Technical Guide (FOTG) of the Natural Resources Conservation Service in Ohio

AGENCY: Natural Resources Conservation Service (NRCS) in Ohio, Department of Agriculture.

ACTION: Notice of availability of proposed changes in Section IV of the FOTG of the NRCS in Ohio for review and comment.

SUMMARY: It is the intention of NRCS in Ohio to issue revised conservation practice standards in Section IV of the FOTG. The proposed standard revisions are Nutrient Management (Code 590) and Waste Utilization (Code 633). These practices may be used in conservation systems that involve “Comprehensive Nutrient Management Plans”.

DATES: Comments will be received on or before August 28, 2000.

FOR FURTHER INFORMATION CONTACT: Inquire in writing to Paul DeArman, Assistant State Conservationist, Natural Resources Conservation Service (NRCS), 200 North High Street Room 522, Columbus, Ohio 43215. Copies of these standards will be made available upon written request. You may submit electronic requests and comments to paul.dearman@oh.nrcs.usda.gov

SUPPLEMENTARY INFORMATION: Section 343 of the Federal Agriculture Improvement and Reform Act of 1996 states that revisions made after the enactment of the law to NRCS State technical guides used to carry out highly erodible land and wetland provisions of the law shall be made available for public review and comment. For the next 30 days the NRCS will receive comments relative to the proposed changes. Following that period a determination will be made by the NRCS regarding the disposition of those comments and a final determination of change will be made.

Dated: July 5, 2000.
J. Kevin Brown,
State Conservationist, Columbus, Ohio.

[FR Doc. 00-19056 Filed 7-27-00; 8:45 am]

BILLING CODE 3410-16-P